DEPARTMENT OF ENERGY

Federal Energy Regulatory Commission

[Docket No. RM98-1-000]

Records Governing Off-the-Record Communications; Public Notice

This constitutes notice, in accordance with 18 CFR 385.2201(b), of the receipt of prohibited and exempt off-the-record communications.

Order No. 607 (64 FR 51222, September 22, 1999) requires Commission decisional employees, who make or receive a prohibited or exempt off-the-record communication relevant to the merits of a contested proceeding, to deliver to the Secretary of the Commission, a copy of the communication, if written, or a summary of the substance of any oral communication.

Prohibited communications are included in a public, non-decisional file associated with, but not a part of, the decisional record of the proceeding. Unless the Commission determines that the prohibited communication and any responses thereto should become a part of the decisional record, the prohibited off-the-record communication will not be considered by the Commission in reaching its decision. Parties to a proceeding may seek the opportunity to respond to any facts or contentions made in a prohibited off-the-record communication and may request that the Commission place the prohibited communication and responses thereto in the decisional record. The Commission will grant such a request only when it determines that fairness so requires. Any person identified below as having made a prohibited off-the-record communication shall serve the document on all parties listed on the official service list for the applicable proceeding in accordance with Rule 2010, 18 CFR 385.2010.

Exempt off-the-record communications are included in the decisional record of the proceeding, unless the communication was with a cooperating agency as described by 40 CFR 1501.6, made under 18 CFR 385.2201(e)(1)(v).

The following is a list of off-the-record communications recently received by the Secretary of the Commission. The communications listed are grouped by docket numbers in ascending order. In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or toll free at (866) 208-3676, or for TTY, contact (202) 502-8659.

Docket Nos. | File date | Presenter or requester
Prohibited:
1. EL20-42-000 | 7-13-2020 | Mass Mailings.¹
2. EL20-42-000 | 7-14-2020 | Mass Mailings.²
3. EL20-42-000 | 7-14-2020 | Mass Mailings.³
4. EL19-58-000, EL17-32-000, EL17-36-000 | 7-15-2020 | FERC Staff.⁴
5. EL20-42-000 | 7-15-2020 | Mass Mailings.⁵
6. ER18-1314-006 | 7-17-2020 | Customer First Renewables.
Exempt:
1. ER20-1926-000 | 7-15-2020 | U.S. Senator John Hoeven.
2. P-14803-000, P-2082-000 | 7-16-2020 | U.S. Representative Doug LaMalfa.
3. CP17-458-000 | 7-21-2020 | U.S. Representative Tom Cole.
¹ Emailed comments of Stephen Schmeiser and 66 other individuals.
² Emailed comments of Martha Spencer and 81 other individuals.
³ Emailed comments of Jean Su on behalf of 450 groups.
⁴ Email and memorandum regarding the 4/24/2020 communication with Jay Apt.
⁵ Emailed comments of Ed Manning and 170 other individuals.

Dated: July 21, 2020.
Nathaniel J. Davis, Sr.,
Deputy Secretary.

[FR Doc. 2020-16189 Filed 7-24-20; 8:45 am]

BILLING CODE 6717-01-P